DEPARTMENT OF COMMERCE

International Trade Administration, Commerce

Export Trade Certificate of Review

ACTION: Notice of issuance of an amended export trade certificate of review, Application No. 96-A0005.

SUMMARY: The Department of Commerce has issued an amendment to the Export Trade Certificate of Review granted originally to Spirit Index, Ltd. on November 15, 1996. Notice of issuance of the Certificate was published in the Federal Register on November 21, 1996 (61 FR 59217).

FOR FURTHER INFORMATION CONTACT: Vanessa M. Bachman, Acting Director, Office of Export Trading Company Affairs, International Trade Administration, (202) 482-5131 (this is not a toll-free number) or at E-mail at oetca@ita.doc.gov.

SUPPLEMENTARY INFORMATION: Title III of the Export Trading Company Act of 1982 (15 U.S.C. sections 4001-21) authorizes the Secretary of Commerce to issue Export Trade Certificates of Review. The regulations implementing Title III are found at 15 CFR Part 325 (2000).

The Office of Export Trading Company Affairs (“OETCA”) is issuing this notice pursuant to 15 CFR 325.6(b), which requires the Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

Export Trade Certificate of Review No. 96-00005, was issued to Spirit Index, Ltd. on November 15, 1996 (61 FR 59217, November 21, 1996). Spirit Index, Ltd.'s Certificate of Review has been amended to change the name of the Certificate holder from Spirit Index, Ltd. originally located at 342 White Horse Pike, Clementon, New Jersey 08021-4345, to Thomas P. Kaczur at 259 Rockaway Street, Islip Terrace, New York 11752-1104.

A copy of the amended certificate will be kept in the International Trade Administration's Freedom of Information Records Inspection Facility, Room 4102, U.S. Department of Commerce, 14th Street and Constitution Avenue, NW., Washington, DC 20230.

Dated: February 5, 2001.
David C. Bowie,
Acting Deputy, Assistant Secretary for Service Industries and Finance.

[FR Doc. 01-3395 Filed 2-8-01; 8:45 am]

BILLING CODE 3510-DR-U